DEPARTMENT OF ENERGY

Federal Energy Regulatory Commission

[Docket No. PF15-1-000]

PennEast Pipeline Company, LLC; Notice of Extension of Comment Period and Clarification of Location of Public Scoping Meetings for the Penneast Pipeline Project

On January 13, 2015, the Federal Energy Regulatory Commission (FERC or Commission) issued a Notice of Intent to Prepare an Environmental Impact Statement for the Planned PennEast Pipeline Project, Requests for Comments on Environmental Issues, and Notice of Public Scoping Meetings. The notice solicited comments on the potential environmental impacts of the planned project and announced the time and location of five public scoping meetings being held for the environmental proceeding. The close of the public comment period in that notice is listed as February 12, 2015.

Due to a limited printing delay in the mailing of the notice, we are extending the comment period. Please note that the scoping period will now close on February 27, 2015.

In addition to extending the scoping period, the Commission staff has provided further clarification on its scoping meeting locations. The table below now lists the name of the building or hall at each meeting location. Please note that signage will be placed upon the entry of the meeting venues for your assistance.

Date and time | Location
January 27, 2015, 6:00 p.m. Eastern Time | College of New Jersey, Kendall Hall, Performance Theater, 2000 Pennington Road, Ewing, NJ 08628.
January 28, 2015, 6:00 p.m. Eastern Time | Bucks County Community College, Kevin and Sima Zlock Performing Arts Center, Gateway Auditorium, 275 Swamp Road, Newtown, PA 18940.
February 10, 2015, 6:00 p.m. Eastern Time | Northampton Community College, Main Campus, Kopecek Hall, Lipkin Theater, 3835 Green Pond Rd, Bethlehem, PA 18020.
February 11, 2015, 6:00 p.m. Eastern Time | Penn's Peak, Main Concert Hall, 325 Maury Road, Jim Thorpe, PA 18229.
February 12, 2015, 6:00 p.m. Eastern Time | Best Western Hotel & Conference Center, Empress Ballroom, 77 E Market Street, Wilkes-Barre, PA.

Dated: January 21, 2015.
Kimberly D. Bose,
Secretary.

[FR Doc. 2015-01475 Filed 1-27-15; 8:45 am]

BILLING CODE 6717-01-P